DEPARTMENT OF COMMERCE

International Trade Administration

C-533-825

Polyethylene Terephthalate (PET) Film, Sheet, and Strip from India: Extension of Time Limit for Preliminary Results of Countervailing Duty Administrative Review

AGENCY: Import Administration, International Trade Administration, U.S. Department of Commerce.

EFFECTIVE DATE: April 5, 2007.

FOR FURTHER INFORMATION CONTACT: Toni Page, Elfi Blum-Page, or Nicholas Czajkowski, Office of AD/CVD Operations 6, Import Administration, International Trade Administration, U.S. Department of Commerce, 14th Street and Constitution Avenue, NW, Washington DC 20230; telephone: (202) 482-1398, (202) 482-0197 or (202) 482-1395, respectively.

SUPPLEMENTARY INFORMATION:

Background

On August 30, 2006, in response to timely requests from MTZ Polyfilms, Ltd., Jindal Poly Films Limited of India, and Garware Polyester, Ltd., the Department of Commerce (the Department) initiated an administrative review of the countervailing duty order on polyethylene terephthalate (PET) film, sheet, and strip from India. See Notice of Initiation of Antidumping and Countervailing Duty Administrative Reviews and Requests for Revocation in Part, 71 FR 51573 (August 30, 2006). This administrative review covers the period January 1, 2005 through December 31, 2005.

Extension of Time Limits for Preliminary Results

Section 751(a)(3)(A) of the Tariff Act of 1930, as amended (the Act) and section 351.213(h)(1) of the Department's regulations require the Department to issue the preliminary results of a review within 245 days after the last day of the anniversary month of the order or suspension agreement for which the administrative review was requested, and final results of the review within 120 days after the date on which the notice of the preliminary results is published in the Federal Register. However, if the Department determines that it is not practicable to complete the review within the aforementioned specified time limits, section 751(a)(3)(A) of the Act and section 351.213(h)(2) of the Department's regulations allow the Department to extend the 245-day period to 365 days and to extend the 120-day period to 180 days.

We determine that it is not practicable to complete the preliminary results of this review within the original time limit. Due to the large number of programs under review, the Department needs additional time to analyze the questionnaire responses and issue appropriate supplemental questionnaires. Therefore, the Department is extending the deadline for completion of the preliminary results of this administrative review of the countervailing duty order on PET film from India by 120 days from April 2, 2007 until no later than July 31, 2007.

This notice is issued and published pursuant to sections 751(a)(3)(A) and 777(i)(1) of the Act.

Dated: March 30, 2007.
Stephen J. Claeys,
Deputy Assistant Secretary for Import Administration.

[FR Doc. E7-6382 Filed 4-4-07; 8:45 am]

BILLING CODE 3510-DS-S